DEPARTMENT OF AGRICULTURE

Farm Service Agency

[Docket ID FSA-2021-0013]

Notice of Funds Availability (NOFA) for the Food Safety Certification for Specialty Crops Program

AGENCY: Commodity Credit Corporation, Farm Service Agency, Department of Agriculture (USDA).

ACTION: Notification of fund availability.

SUMMARY: The Farm Service Agency (FSA) is announcing the availability of $200 million through the new Food Safety Certification for Specialty Crops Program (FSCSC) for specialty crop operations that incur eligible on-farm food safety program expenses to obtain or renew a food safety certification in calendar years 2022 or 2023. To be eligible for assistance with expenses related to a 2022 food safety certification, the certification must have been issued on or after June 21, 2022. Specialty crop operations incur significant costs to comply with regulatory requirements and market-driven food safety certification requirements each year with little opportunity to recover the increased costs. In this document, FSA is providing the eligibility requirements, application process, and payment calculation for FSCSC.

DATES:

Funding availability: Implementation will begin June 27, 2022.

Comments Due Date: We will consider comments on the information collection request discussed in the Paperwork Reduction Act section that we receive by: August 22, 2022.

ADDRESSES: We invite you to submit comments on the information collection request. You may submit comments using any of the following methods, although FSA prefers that you submit comments electronically through the Federal eRulemaking Portal:

• Federal eRulemaking Portal: Go to http://www.regulations.gov and search for Docket ID FSA-2021-0013. Follow the online instructions for submitting comments.

• Mail, Hand-Delivery, or Courier: Director, Safety Net Division, FSA, USDA, 1400 Independence Avenue SW, Stop 0510, Washington, DC 20250-0522. In your comment, specify the docket ID FSA-2021-0013.

All comments received, including those received by mail, will be posted without change and will be publicly available on http://www.regulations.gov. Copies of the information collection may be requested by contacting the above address.

FOR FURTHER INFORMATION CONTACT: Tona Huggins: (202) 720-7641; or by email: tona.huggins@usda.gov. Persons with disabilities who require alternative means for communication should contact the USDA Target Center at (202) 720-2600 (voice).

SUPPLEMENTARY INFORMATION:

Background

FSA, on behalf of CCC, is establishing FSCSC to assist specialty crop operations that incurred eligible on-farm food safety certification and related expenses in order to obtain or renew a:

• 2022 food safety certification issued between June 21, 2022 and December 30, 2022; or

• 2023 food safety certification issued at any time during the 2023 calendar year.

For each year, FSCSC will cover a portion of the specialty crop operation's cost of obtaining or renewing their certification, as well as a portion of their related costs as described in this NOFA.

Specialty crops intended for human consumption are subject to concerns about safety, particularly since specialty crops sold as raw agricultural commodities do not undergo a “kill step” like cooking, canning, or pasteurizing used for other agricultural commodities such as meat or dairy products. As a result, specialty crop operations face increasing demand from grocery stores, schools, and other institutional buyers and retailers to obtain certification through programs that address the safe growing, harvesting, packing, and holding of their crops. The need to develop, implement, and maintain on-farm food safety programs has resulted in additional costs for many specialty crop operations that seek alternate markets for their products due to changes in demand from traditional markets such as restaurants and food service. As they identify new markets, many specialty crop operations also find they need to undergo food safety audits and absorb the additional costs to achieve food safety certification through a private or government-based certification program in order to meet buyers' requirements to sell their products.

FSCSC funding of $200 million is provided through the CCC Charter Act, which authorizes CCC to increase the domestic consumption of agricultural commodities (other than tobacco) by expanding or aiding in the expansion of domestic markets or by developing or aiding in the development of new and additional markets, marketing facilities, and uses for such commodities (15 U.S.C. 714c(e)). FSCSC will aid in the expansion of domestic markets and development of new and additional markets by assisting specialty crop operations with costs that they incur to obtain or renew food safety certifications in order to comply with government and retail buyers' demands for food safety certification, ultimately expanding the markets available to those operations and increasing domestic consumption of specialty crops. To that end, only producers that successfully obtain or renew a food safety certification after publication of this notice are eligible to be compensated for a portion of the cost of that certification, as explained further below.

Definitions

The following definitions apply to this notice:

Beginning farmer or rancher means a farmer or rancher who has not operated a farm or ranch for more than 10 years and who materially and substantially participates in the operation. For a legal entity to be considered a beginning farmer or rancher, at least 50 percent of the ownership interest must be held by individuals who are beginning farmers or ranchers.

Certification upload fee means the fee paid by a specialty crop operation to upload reports and other documentation to a commercial database.

Certifier means either a private entity accredited for the purpose of providing food safety certification or a government-based certifier.

Deputy Administrator means the FSA Deputy Administrator for Farm Programs.

Food safety certification means certification that a specialty crop operation meets regulatory or market-driven food safety standards.

Food safety management system means a documented system developed by a group of specialty crop operations to obtain food safety certification, also referred to as a “quality management system.”

FSMA means the FDA Food Safety Modernization Act (Pub. L. 111-353).

Food safety plan means a documented plan implemented by a specialty crop operation to obtain food safety certification.

Historically underserved farmer or rancher means a beginning farmer or rancher, limited resource farmer or rancher, socially disadvantaged farmer or rancher, or veteran farmer or rancher.

Limited resource farmer or rancher means a farmer or rancher who is both of the following:

(1) A person whose direct or indirect gross farm sales did not exceed:

(a) For the 2022 program year, $189,200 in each of the 2019 and 2020 calendar years; or

(b) For the 2023 program year, the amount identified through the Limited Resource Farmer and Rancher Online Self Determination Tool in each of the 2020 and 2021 calendar years; and

(2) A person whose total household income was at or below the national poverty level for a family of four in each of the same two previous years referenced in paragraph (1) of this definition.

For an entity to be considered a limited resource farmer or rancher, all members who hold an ownership interest in the entity must meet the criteria in paragraphs (1) and (2) of this definition. Limited resource farmer or rancher status can be determined using a website available through the Limited Resource Farmer and Rancher Online Self Determination Tool, which is available through the Natural Resources Conservation Service at https://lrftool.sc.egov.usda.gov. Producers may also contact their FSA county office for assistance.

Produce Safety Rule means the final rule titled “Standards for the Growing, Harvesting, Packing, and Holding of Produce for Human Consumption” published on November 27, 2015 (80 FR 74354-74568).

Program year means the calendar year in which the applicant's food safety certification is issued (that is, 2022 or 2023).

Raw agricultural commodity means any food in its raw or natural state, including all fruits that are washed, colored, or otherwise treated in their unpeeled natural form prior to marketing.

Small business means an applicant that had an average annual monetary value of specialty crops the applicant sold during the 3-year period preceding the program year of more than $250,000 but not more than $500,000.

Socially disadvantaged farmer or rancher means a farmer or rancher who is a member of a group whose members have been subjected to racial, ethnic, or gender prejudice because of their identity as members of a group without regard to their individual qualities. For entities, at least 50 percent of the ownership interest must be held by individuals who are members of such a group. Socially disadvantaged groups include the following and no others unless approved in writing by the Deputy Administrator:

(1) American Indians or Alaskan Natives;

(2) Asians or Asian-Americans;

(3) Blacks or African Americans;

(4) Hispanics or Hispanic Americans;

(5) Native Hawaiians or other Pacific Islanders; and

(6) Women.

Specialty crop means any fruit or vegetable (including mixes of intact fruits and vegetables) and includes mushrooms, sprouts (irrespective of seed source), tree nuts, and herbs. A fruit is the edible reproductive body of a seed plant or tree nut (such as apple, orange, and almond) such that fruit means the harvestable or harvested part of a plant developed from a flower. A vegetable is the edible part of an herbaceous plant (such as cabbage or potato) or fleshy fruiting body of a fungus (such as white button or shiitake) grown for an edible part such that vegetable means the harvestable or harvested part of any plant or fungus whose fruit, fleshy fruiting bodies, seeds, roots, tubers, bulbs, stems, leaves, or flower parts are used as food and includes mushrooms, sprouts, and herbs (such as basil or cilantro). “Specialty crop” does not include peanuts or food grains, meaning the small, hard fruits or seeds of arable crops, or the crops bearing these fruits or seeds, which are primarily grown and processed for use as meal, flour, baked goods, cereals, and oils rather than for direct consumption as small, hard fruits or seeds (including cereal grains, pseudo cereals, oilseeds, and other plants used in the same fashion). Examples of food grains include barley, dent- or flint-corn, sorghum, oats, rice, rye, wheat, amaranth, quinoa, buckwheat, and oilseeds (for example, cotton seed, flax seed, rapeseed, soybean, and sunflower seed).

Specialty crop operation means a farming operation that produces specialty crops that are raw agricultural commodities. It includes both individuals and legal entities.

Very small business means an applicant that had an average annual monetary value of specialty crops the applicant sold during the 3-year period preceding the program year of no more than $250,000.

Veteran farmer or rancher means a farmer or rancher who has served in the Armed Forces (as defined in 38 U.S.C. 101(10) ¹) and:

¹ The term “Armed Forces” means the United States Army, Navy, Marine Corps, Air Force, Space Force, and Coast Guard, including the reserve components.

(1) Has not operated a farm or ranch for more than 10 years; or

(2) Has obtained status as a veteran (as defined in 38 U.S.C. 101(2) ²) during the most recent 10-year period.

² The term “veteran” means a person who served in the active military, naval, air, or space service, and who was discharged or released under conditions other than dishonorable.

For an entity to be considered a veteran farmer or rancher, at least 50 percent of the ownership interest must be held by members who have served in the Armed Forces and meet the criteria in paragraph (1) or (2) of this definition.

Eligible Applicants

To be eligible for FSCSC, the applicant must meet all of the following:

• Be a specialty crop operation;

• Be a small business or very small business;

• Have obtained or renewed a:

○ 2022 food safety certification that was issued between June 21, 2022 and December 31, 2022; or

○ 2023 food safety certification issued during the 2023 calendar year; and

• Have paid eligible expenses as described in this document.

FSCSC is available to specialty crop operations located in the 50 United States, the District of Columbia, the Commonwealth of Puerto Rico, Guam, American Samoa, the U.S. Virgin Islands, and the Commonwealth of the Northern Mariana Islands.

Eligible Expenses

FSCSC provides assistance for eligible expenses that the applicant both incurs and pays in order to obtain or renew a 2022 or 2023 food safety certification as described above. Expenses that have been incurred by an applicant who does not ultimately obtain a 2022 or 2023 food safety certification are not eligible for assistance through FSCSC.

Some specialty crop operations obtain food safety certification through a group model, which enables multiple producers to form a group that develops a food safety management system and is audited and certified as one unit. This approach enables group members to pool resources to implement food safety training programs and share the cost of certification. Specialty crop operations that obtain certification through a group model are eligible to apply for assistance for their share of eligible expenses paid by the group, in addition to any eligible expenses they incur individually.

Specialty crop operations may receive assistance for the costs described below, including any associated postage costs.

Developing a food safety plan for first-time food safety certification. A food safety plan is a requirement for any specialty crop operation or group undergoing formal food safety certification, and the majority of costs associated with food safety plan development occur the first year an operation undergoes food safety certification. There are 2 general approaches to plan development—the specialty crop operation may develop its own plan, hire a consultant, or a combination of both. FSCSC will cover a percentage of the costs of seminars and tools used by specialty crop operations to create a food safety plan. FSCSC will also cover a percentage of the consulting fees and other associated expenses incurred if the specialty crop operation hires a consultant to develop a food safety plan. For specialty crop operations certified through a group, this category of expenses will cover a percentage of their share of the cost for developing a food safety or quality management system for the group.

Maintaining or updating an existing food safety plan. Certification programs typically require an annual review of the food safety plan to ensure it is current and addresses any new audit or regulatory requirements, as well as incorporates any new hazards. FSCSC will cover a percentage of the costs of maintaining and updating existing food safety plans. For specialty crop operations certified through a group, this category of expenses will cover a percentage of their share of the cost for maintaining or updating an existing food safety management system for the group.

Food safety certification. FSCSC will cover a percentage of the cost of obtaining food safety certification issued by a certifier, including application fees, inspection costs, inspection fees (including travel costs and per diem for certifiers), and user fees or certifier sales assessments.

Certification upload fees. FSCSC will cover a percentage of the cost to upload audit reports and certification documentation into commercial audit databases, which may be required by buyers of specialty crops.

Microbiological testing. FSCSC will cover a percentage of the cost of microbiological testing for products, soil amendments, and water as specified by a food safety plan or food safety management system. The FSMA Produce Safety Rule requires covered farms to test their agricultural water, and commercial food safety standards may require additional testing to determine if water meets the microbial requirements of the Environmental Protection Agency's drinking water standard (40 CFR part 141). Retail, food service, and institutional buyers are also increasingly requiring microbiological testing of finished products. Testing of soil amendments, particularly amendments of animal origin (composting) is also required by many food safety audit programs.

Training. FSCSC will cover the cost of food safety training for the specialty crop operation. The FSMA requires all covered operations to take a training course annually. Additionally, most certification programs require training as well.

Ineligible Expenses

Any expenses not listed above, as determined by the Deputy Administrator, are not covered by FSCSC. The following expenses are examples of costs that are not eligible for cost share under FSCSC:

• Infrastructure improvements (such as improvements to buildings, cold storage, flooring, restrooms, and handwashing stations);

• Equipment (such as grading or packing lines and sanitation equipment);

• Supplies (such as sanitation and cleaning supplies and personal protective equipment);

• Salaries and benefits of employees or other costs for labor, except for expenses for consultants described above; and

• Fees or penalties for late payment.

Application Process

The application period for 2022 begins on June 27, 2022, and ends on January 31, 2023. The application period for 2023 will be announced at a later date. Applicants may apply for FSCSC at any USDA Service Center.³ Each applicant must submit the following forms in person or by mail, email, facsimile, or other methods announced by FSA:

³ USDA Service Center locations and contact information are available at https://offices.sc.egov.usda.gov/locator/app.

• Form FSA-888, Food Safety Certification for Specialty Crops Program (FSCSC);

• Form CCC-860, Socially Disadvantaged, Limited Resource, Beginning and Veteran Farmer or Rancher Certification, for the applicable program year if the applicant qualifies as a historically underserved farmer or rancher and this form is not already on file with FSA; ⁴

⁴ Form CCC-860 is not required for applicants meeting the definition of socially disadvantaged, limited resource, beginning, and veteran farmer or rancher to receive a payment; however, failure to submit form CCC-860 will result in an applicant's payment being calculated using the lower payment rate that applies to all other applicants. An applicant who has filed CCC-860 certifying their status as a socially disadvantaged, beginning, or veteran farmer or rancher for a prior program year is not required to submit a subsequent certification of their status for a later program year because their status as socially disadvantaged would not change in different years, and their certification as a beginning or veteran farmer or rancher includes the relevant date needed to determine for what programs years the status would apply. Because an applicant's status as a limited resource farmer or rancher may change annually depending on their direct and indirect gross farm sales, those applicants must submit CCC-860 for each applicable program year.

• Form AD-2047, Customer Data Worksheet, if not already on file with FSA; and

• Form SF-3881, ACH Vendor/Miscellaneous Payment Enrollment Form, if not already on file with FSA.⁵

⁵ Applicants who are unable to receive payment through direct deposit are still eligible to participate in FSCSC. Those applicants should contact their local FSA county office for further information.

Eligible expenses are based on the applicant's certification and are subject to spot check.

Applicants may be required to provide additional documentation to FSA, if requested by FSA, to verify eligibility or issue payment. Specialty crop operations certified as part of a group under a food safety management system must provide documentation of the applicant's portion of the group's expenses from the entity responsible for maintaining the group's certification if requested by FSA. Additional documentation must be received within 30 days of the request or the application will not be processed.

Payments

FSCSC payments are calculated separately for each category of eligible costs based on the percentages and maximum payment amounts in the following table. An applicant may receive the specified percentage of their eligible costs, up to the maximum per category, for each program year.

Category of eligible expenses | Payment amount of eligible costs: Historically underserved farmer or rancher | Payment amount of eligible costs: All other applicants
Development of a food safety plan for first-time certification | 75 percent (no maximum) | 50 percent (no maximum).
Maintaining or updating a food safety plan | 75 percent, up to a maximum of $375 | 50 percent, up to a maximum of $250.
Food safety certification | 75 percent, up to a maximum of $2,000 | 50 percent, up to a maximum of $2,000.
Certification upload fees | 75 percent, up to a maximum of $375 | 50 percent, up to a maximum of $250.
Microbiological testing—products | 75 percent, up to 5 tests | 50 percent, up to 5 tests.
Microbiological testing—soil amendments | 75 percent, up to 5 tests | 50 percent, up to 5 tests.
Microbiological testing—water | 75 percent, up to 5 tests | 50 percent, up to 5 tests.
Training | 100 percent, up to a maximum of $300 | 100 percent, up to a maximum of $200.

Payments will be equal to the applicant's eligible expenses multiplied by the percentage for the applicable category in the table above, not to exceed the maximum payment amount for the category, if applicable. An applicant must report any previous cost share assistance received from any source for the expenses included on their application. The amount of the applicant's FSCSC payment plus the reported additional cost share assistance cannot exceed the total amount of eligible expenses for each category. If the amount of the additional cost share plus the calculated FSCSC payment exceed the total amount of eligible expenses for a category, the FSCSC payment for that category will be equal to the total amount of eligible expenses minus the additional reported cost share assistance.

FSA will issue payments for the 2022 program year as applications are processed and approved. Due to the limited amount of funding, FSA will issue 2023 program year payments after the end of the application period. If calculated payments exceed the amount of available funding for 2023, payments will be prorated.

Other Provisions

Participants are required to retain documentation in support of their application for 3 years after the date of approval. Participants receiving FSCSC payments or any other person who furnishes such information to USDA must permit authorized representatives of USDA or the Government Accountability Office, during regular business hours, to enter the operation and to inspect, examine, and to allow representatives to make copies of books, records, or other items for the purpose of confirming the accuracy of the information provided by the participant.

Applicants have a right to a decision in response to their application. If an applicant files an application with an FSA county office after the application deadline, the application will be considered a request to waive the deadline.

Requests to waive or modify program provisions, including requests to waive the deadline, are at the discretion of the Deputy Administrator. The Deputy Administrator has the authority to waive or modify application deadlines and other requirements or program provisions not specified in law, in cases where the Deputy Administrator determines it is (1) equitable to do so and (2) where the lateness or failure to meet such other requirements or program provisions do not adversely affect the operation of FSCSC.

Applicants who request to waive or modify FSCSC provisions do not have a right to a decision on those requests, and the Deputy Administrator's refusal to exercise discretion on requests to waive or modify FSCSC provisions will not be considered an adverse decision and is, by itself, not appealable.

Equitable relief and finality provisions specified in 7 CFR part 718, subpart D, apply to determinations under FSCSC. Persons and legal entities who file an application with FSA have the right to an administrative review of any FSA adverse decision with respect to the application under the appeals procedures at 7 CFR parts 780 and 11. The determination of matters of general applicability that are not in response to, or do not result from, an individual set of facts in an individual participant's application for payment are not matters that can be appealed. Such matters of general applicability include, but are not limited to, the determination of eligible categories of expenses and payment rates.

Any payment under FSCSC will be made without regard to questions of title under State law and without regard to any claim or lien. The regulations governing offsets in 7 CFR part 3 apply to FSCSC payments.

If an FSCSC payment resulted from erroneous information provided by a participant, or any person acting on their behalf, the payment will be recalculated and the participant must refund any excess payment with interest calculated from the date of the disbursement of the payment. If FSA determines that the applicant intentionally misrepresented information provided on their application, the application will be disapproved and the applicant must refund the full payment to FSA with interest from the date of disbursement.

In either applying for or participating in FSCSC, or both, the applicant is subject to laws against perjury (including but not limited to 18 U.S.C. 1621). If the applicant willfully makes and represents as true any verbal or written declaration, certification, statement, or verification that the applicant knows or believes not to be true, in the course of either applying for or participating in FSCSC, or both, then the applicant may be found to be guilty of perjury. Except as otherwise provided by law, if guilty of perjury the applicant may be fined, imprisoned for not more than 5 years, or both, regardless of whether the applicant makes such verbal or written declaration, certification, statement, or verification within or outside the United States.

For the purposes of the effect of a lien on eligibility for Federal programs (28 U.S.C. 3201(e)), USDA waives the restriction on receipt of funds under FSCSC but only as to beneficiaries who, as a condition of the waiver, agree to apply the FSCSC payments to reduce the amount of the judgment lien.

In addition to any other Federal laws that apply to FSCSC, the following laws apply: 18 U.S.C. 286, 287, 371, and 1001.

Paperwork Reduction Act Requirements

In accordance with the Paperwork Reduction Act of 1995 (44 U.S.C. Chapter 35), FSA is requesting comments from interested individuals and organizations on the information collection request associated with FSCSC. The FSCSC information collection request is for the eligible specialty crop operations to provide FSA the information about their eligible expenses to qualify for the payments and to enable FSA to determine the amount of the payment. FSA has submitted the emergency approval request for the FSCSC information collection activities to OMB for a 6-month approval. After the 60-day comment ends the information collection request will be submitted to OMB for a 3-year OMB approval.

Title: Food Safety Certification for Specialty Crops (FSCSC) Program.

OMB Control Number: 0560-New.

Type of Request: New Collection.

Abstract: The information collection request is required to support specialty crop operations to provide their eligible expenses to get the FSCSC payments. The forms for the applicants, who are producers or farmers, to complete for the FSCSC payments and the payment calculations are described in this document.

For the following estimated total annual burden on respondents, the formula used to calculate the total burden hour is the estimated average time per response multiplied by the estimated total annual responses. Public reporting burden for this information collection is estimated 0.685 hours to include the time for reviewing instructions, searching existing data sources, gathering and maintaining the data needed and completing and reviewing the collections of information.

Type of Respondents: Farmer or producer.

Estimated Annual Number or Respondents: 22,000.

Estimated Number of Responses per Respondent: 1.7.

Estimated Total Annual Responses: 37,400.

Estimated Average Time per Response: 0.685.

Estimated Total Annual Burden on Respondents: 25,652 hours.

FSA is requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected; and

(4) Minimize the burden of the information collection on those who are to respond, including through the use of appropriate automated, electronic, mechanical, or other technological collection techniques or other forms of information technology.

All comments received in response to this document, including names and addresses when provided, will be a matter of public record. Comments will be summarized and included in the submission for Office of Management and Budget approval.

Environmental Review

The environmental impacts of this notice have been considered in a manner consistent with the provisions of the National Environmental Policy Act (NEPA, 42 U.S.C. 4321-4347), the regulations of the Council on Environmental Quality (40 CFR parts 1500-1508), and the FSA regulations for compliance with NEPA (7 CFR part 799).

The purpose of FSCSC is to provide assistance to specialty crop operations for eligible costs related to food safety certification. The Categorical Exclusions in 7 CFR 799.31 apply, specifically 7 CFR 799.31(b)(6)(iii) (that is, financial assistance to supplement income). No Extraordinary Circumstances (7 CFR 799.33) exist. FSA has determined that this notice does not constitute a major Federal action that would significantly affect the quality of the human environment, individually or cumulatively. Therefore, FSA will not prepare an environmental assessment or environmental impact statement for this regulatory action.

Federal Assistance Programs

The title and number of the Federal assistance program in the Assistance Listing,⁶ to which this NOFA applies is 10.142, Food Safety Certification for Specialty Crops (FSCSC) Program.

⁶ See https://sam.gov/content/assistance-listings.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774. Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Administrator, Farm Service Agency, and Executive Vice President, Commodity Credit Corporation.

[FR Doc. 2022-13014 Filed 6-17-22; 8:45 am]

BILLING CODE 3410-05-P